FEDERAL COMMUNICATIONS COMMISSION

[CCB/CPD File Nos. 97-39, 97-41; DA 04-3156]

Petitions for Waiver of 6.5 Percent Price Cap Local Exchange Carrier X-Factor

AGENCY: Federal Communications Commission.

ACTION: Notice; termination of proceedings.

SUMMARY: This document is a notification of final termination of the petitions for waiver of the 6.5 percent productivity-based “X-factor” for price cap local exchange carriers adopted by the Commission in a 1997 order. The petitions for waiver have been withdrawn by the petitioners. No oppositions to the prior notice of terminations were received; therefore, interested parties are hereby notified that these proceedings have been terminated.

DATES: These proceedings were terminated effective September 16, 2004.

FOR FURTHER INFORMATION CONTACT: Jennifer McKee, Wireline Competition Bureau, Pricing Policy Division, (202) 418-1530.

SUPPLEMENTARY INFORMATION: On August 5, 2004, the Wireline Competition Bureau's Pricing Policy Division issued a Public Notice that the proceedings addressing the Citizens and SNET petitions for waiver of the 6.5 percent X-factor would be terminated effective 30 days after publication of the Public Notice in the Federal Register, unless the Bureau received oppositions to the terminations before that date. The notice was published in the Federal Register on August 17, 2004. See 69 FR 51079, August 17, 2004. The Bureau did not receive any oppositions to the terminations of these proceedings within 30 days of Federal Register publication of the notice; therefore, these proceedings were terminated as of September 16, 2004.

Authority: 47 U.S.C. 152, 153, 154, 155; 44 FR 18501, 67 FR 13223, 47 CFR 0.291, 1.749.

Federal Communications Commission.
Michelle M. Carey,
Acting Chief, Wireline Competition Bureau.

[FR Doc. 04-22756 Filed 10-7-04; 8:45 am]

BILLING CODE 6712-01-P